DEPARTMENT OF ENERGY

Federal Energy Regulatory Commission

[Docket No. RP00-329-002]

Great Lakes Gas Transmission Limited Partnership; Notice of Compliance Filing

August 23, 2002.

Take notice that on August 19, 2002, Great Lakes Gas Transmission Limited Partnership (Great Lakes) tendered for filing as part of its FERC Gas Tariff, Second Revised Volume No. 1, the tariff sheets listed on Appendix A to the filing, to be effective October 1, 2002.

Great Lakes states that these tariff sheets are being filed in compliance with the Commission's July 19, 2002 Order on Compliance with Order Nos. 637, 587-G, and 587-L in Docket Nos. RP00-329-000, RP00-606-000, and RP00-606-001 (July 19 Order). In the July 19 Order, the Commission found that pro forma tariff sheets filed by Great Lakes on June 15, 2000 in Docket No. RP00-329-000 generally complied with the requirements of Order No. 637, subject to certain modifications. The Commission also found that filings made by Great Lakes on September 29, 2000 and on November 27, 2000 in Docket Nos. RP00-606-000 and RP00-606-001, respectively, satisfactorily complied with Order Nos. 587-G and 587-L, and accepted these filings subject to certain modifications. Great Lakes was directed to file actual tariff sheets within thirty (30) days of the July 19 Order consistent with the Commission directives and modifications set forth in that Order.

Great Lakes is seeking clarification or rehearing of one requirement of the July 19 Order in a separate filing submitted on the same day as the instant filing. This compliance tariff filing includes actual tariff sheets that incorporate the required modifications, and the proposals and provisions approved by the Commission, with the exception of the modifications that are the subject of Great Lakes' request for clarification or rehearing.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-22047 Filed 8-28-02; 8:45 am]

BILLING CODE 6717-01-P